DEPARTMENT OF TRANSPORTATION

Federal Aviation Administration

Twenty Second Meeting: RTCA Special Committee 217—Aeronautical Databases Joint With EUROCAE WG-44—Aeronautical Databases

AGENCY: Federal Aviation Administration (FAA), U.S. Department of Transportation (DOT).

ACTION: Notice of RTCA Special Committee 217—Aeronautical Databases Joint With EUROCAE WG-44—Aeronautical Databases.

SUMMARY: The FAA is issuing this notice to advise the public of a meeting of RTCA Special Committee 217—Aeronautical Databases being held jointly with EUROCAE WG-44—Aeronautical Databases.

DATES: The meeting will be held December 2-5, 2014 from 9:00 a.m. to 5:00 p.m.

ADDRESSES: The meeting will held at RTCA Headquarters, 1150 18th Street NW., Suite 910, Washington, DC.

FOR FURTHER INFORMATION CONTACT: Sophie Bousquet, SBousquet@rtca.org, 202-330-0663 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 217—Aeronautical Databases held jointly with EUROCAE WG-44—Aeronautical Databases. The agenda will include the following:

Tuesday, December 2, 2014, Opening Plenary

• Co-Chairmen's remarks and introductions

• Housekeeping

• Approve minutes from 21th meeting

• Review and approve meeting agenda for 22th meeting

• Schedule and working arrangements for this week

• Review of joint WG-1/WG-2 Action Items

• Closing Plenary Schedule

Tuesday Through Thursday, December 2nd to 4th (WG1) and (WG2) Session

• WG1—Final work and review before FRAC

• WG1—Schedule for FRAC release and associated actions

• WG2—Action Item Status Review

• WG2—Review of Working Papers, Discussion Papers, Information Papers

Friday Morning, December 5th, Closing Plenary Session (9:00 a.m. to Noon)

• Presentation of WG1 and WG2 conclusions

• Approval to release DO-200A/ED-76 Revision for FRAC

• Working arrangements for the remaining work

• Review of action items

• Next meetings, dates and locations

• Any other business

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on October 23 2014.
Mohannad Dawoud,
Management Analyst, Program Oversight and Administration, ANG-A15, Federal Aviation Administration.

[FR Doc. 2014-25665 Filed 10-28-14; 8:45 am]

BILLING CODE 4910-13-P